DEPARTMENT OF COMMERCE

National Oceanic and Atmospheric Administration

Review of Nomination for Lake Erie Quadrangle National Marine Sanctuary

AGENCY: Office of National Marine Sanctuaries (ONMS), National Ocean Service (NOS), National Oceanic and Atmospheric Administration (NOAA), Department of Commerce (DOC).

ACTION: Notice.

SUMMARY: In May 2020, the Office of National Marine Sanctuaries of the National Oceanic and Atmospheric Administration requested written comments to facilitate ONMS review of the nomination for Lake Erie Quadrangle National Marine Sanctuary (NMS). NOAA requested relevant information as it pertains to the 11 national significance criteria and management considerations that NOAA applied to evaluate the Lake Erie Quadrangle NMS nomination for inclusion in the national inventory of areas that NOAA may consider for future designation as a national marine sanctuary. NOAA has synthesized the information gathered through the public process, completed an internal analysis, and the ONMS Director has made a final determination that the Lake Erie Quadrangle NMS nomination will remain in the inventory beyond the February 22, 2021 expiration date.

DATES: This determination took effect on February 22, 2021.

ADDRESSES: Ellen Brody, Great Lakes Regional Coordinator, 4840 South State Road, Ann Arbor, MI 48108 or at ellen.brody@noaa.gov, 734-741-2270, and at https://nominate.noaa.gov/nominations/.

FOR FURTHER INFORMATION CONTACT: Ellen Brody, Great Lakes Regional Coordinator, 4840 South State Road, Ann Arbor, MI 48108 or at ellen.brody@noaa.gov, 734-741-2270.

SUPPLEMENTARY INFORMATION:

Background Information

In 2014, NOAA issued a final rule establishing the sanctuary nomination process (SNP), a process by which communities may submit nominations of areas of the marine and Great Lakes environment for NOAA to consider for designation as a national marine sanctuary (79 FR 33851). The final rule establishing the SNP included a five-year limit on any nomination added to the inventory that NOAA does not advance for designation. The nomination for Lake Erie Quadrangle NMS was accepted to the national inventory on February 22, 2016, and was scheduled to expire in February 2021.

On November 13, 2019, NOAA issued a document (84 FR 61546) to clarify procedures for evaluating and updating a nomination as it approaches the five-year mark. The clarified procedure ensures the inventory contains nominations that remain relevant and responsive to the 11 SNP national significance criteria and management considerations (“SNP Criteria”). The 11 SNP Criteria can be found at https://nominate.noaa.gov.

On January 12, 2021, NOAA issued a request for public comments on this nomination (86 FR 2384). NOAA requested relevant information pertaining to the 11 SNP Criteria that NOAA applied to evaluate the Lake Erie Quadrangle NMS nomination for inclusion in the national inventory of areas that NOAA may consider for future designation as a national marine sanctuary. No public comments were received during this public comment period, however, the nominator did provide additional information which NOAA has used in evaluating the nomination. In analyzing this material, particular attention was given to new scientific information about the national significance of natural and cultural resources, as well as increases or decreases in the threats to resources originally proposed for protection, and changes to the management framework of the area. NOAA also assessed the level of community-based support for the nomination from a broad range of interests.

Following NOAA's review of information provided regarding the nomination's merit for remaining on the inventory after five years, it was determined that new information shows: There are still significant threats to the area; it is still an area of national significance; and, there is still broad community support for the nomination remaining on the inventory of possible designations, among other criteria that the nomination still continues to meet. Therefore, the ONMS Director has determined the nomination for the Lake Erie Quadrangle NMS should remain on the inventory. NOAA is not proposing to designate Lake Erie Quadrangle NMS or any other new national marine sanctuary with this action. This notice serves to inform the public of this decision to extend the nomination on the inventory.

Authority: 16 U.S.C. 1431 et seq.

John Armor,
Director, Office of National Marine Sanctuaries, National Ocean Service, National Oceanic and Atmospheric Administration.

[FR Doc. 2021-05284 Filed 3-12-21; 8:45 am]

BILLING CODE 3510-NK-P